RAILROAD RETIREMENT BOARD

Proposed Collection; Comment Request

SUMMARY: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection:

RUIA Investigations and Continuing Entitlement; OMB 3220-0025.

Under Section 1(k) of the Railroad Unemployment Insurance Act (RUIA), unemployment and sickness benefits are not payable for any day with respect to which remuneration is payable or accrues to the claimant. Also Section 4(a-1) of the RUIA provides that unemployment or sickness benefits are not payable for any day the claimant receives the same benefits under any law other than the RUIA. Under Railroad Retirement Board (RRB) regulations, 20 CFR 322.4(a), a claimant's certification or statement on an RRB provided claim form that he or she did not work on any day claimed and did not receive income such as vacation pay or pay for time lost shall constitute sufficient evidence unless there is conflicting evidence. Further, under 20 CFR 322.4(b), when there is question raised as to whether or not remuneration is payable or has accrued to a claimant with respect to a claimed day or days, investigation shall be made with a view to obtaining information sufficient for a finding. The RRB utilizes the following four forms to obtain information from railroad employers, nonrailroad employers and claimants, that are needed to determine whether a claimed days or days of unemployment or sickness were improperly or fraudulently claimed: Form ID-5I, Letter to Non-Railroad Employers on Employment and Earnings of a Claimant; Form ID-5R(SUP), Report of Employees Paid RUIA Benefits for Every Day in Month Reported as Month of Creditable Service; Form ID-49R, Letter to Railroad Employer for Payroll Information; and Form UI-48, Claimant's Statement Regarding Benefit Claim for Days of Employment. Completion is voluntary. One response is requested of each respondent.

To qualify for unemployment or sickness benefits payable under Section 2 of the Railroad Unemployment Insurance Act (RUIA), a railroad employee must have certain qualifying earnings in the applicable base year. In addition, to qualify for extended or accelerated benefits under Section 2 of the RUIA, a railroad employee who has exhausted his or her rights to normal benefits must have at least 10 years of railroad service (under certain conditions, military service may be credited as months of railroad service). Accelerated benefits are unemployment or sickness benefits that are payable to a railroad employee before the regular July 1 beginning date of a benefit year if an employee has 10 or more years of service and is not qualified for benefits in the current benefit year.

During the RUIA claims review process, the RRB may determine that unemployment or sickness benefits cannot be awarded because RRB records show insufficient qualifying service and/or compensation. When this occurs, the RRB allows the claimant the opportunity to provide additional information if they believe that the RRB service and compensation records are incorrect.

Depending on the circumstances, the RRB provides the following form(s) to obtain information needed to determine if a claimant has sufficient service or compensation to qualify for unemployment or sickness benefits. Form UI-9, Applicant's Statement of Employment and Wages, Form UI-23, Claimant's Statement of Service for Railroad Unemployment Insurance Benefits, Form UI-44, Claim for Credit for Military Service (RUIA), Form ID-4F, Advising of Ineligibility for RUIA Benefits, Form ID-4U, Advising of Service/Earnings Requirements for RUIA Benefits, Form ID-4X, Advising of Service/Earnings Requirements for Sickness Benefits, Form ID-4Y, Advising of Ineligibility for Sickness Benefits, Form ID-20-1, Advising that Normal Unemployment Benefits Are About to Be Exhausted, Form ID-20-2, Advising the Normal Sickness Benefits Are About to Be Exhausted, and Form ID-20-4, Advising That Normal Sickness Benefits Are About to Be Exhausted/Non-Entitlement. Completion of these forms is required to obtain or retain a benefit. One response is required of each respondent.

The RRB proposes no changes to any of the forms in the information collection.

The burden associated with the information collection is estimated as follows:

Form No. | Annual responses | Completion time (Minutes) | Burden hours
ID-5I | 9,100 | 15 | 2,275
ID-5R(SUP) | 1,200 | 10 | 200
ID-49R | 5 | 15 | 3
UI-48 | 5 | 12 | 1
UI-9 | 100 | 10 | 8
UI-23 | 5 | 5 | 50
UI-44 | 5 | 5 | 1
ID-4F | 25 | 5 | 2
ID-4U | 30 | 5 | 3
ID-4X | 25 | 5 | 2
ID-4Y | 5 | 5 | 1
ID-20-1 | 90 | 5 | 8
ID-20-2 | 100 | 5 | 8
ID-20-4 | 5 | 5 | 1
Total | 10,700 |  | 2,512

2. Title and purpose of information collection:

Application to Act as Representative Payee; OMB 3220-0052.

Under Section 12 of the Railroad Retirement Act, the Railroad Retirement Board (RRB) may pay benefits to a representative payee when an employee, spouse or survivor annuitant is incompetent or is a minor. A representative payee may be a court-appointed guardian, a statutory conservator or an individual selected by the RRB. The procedures pertaining to the appointment and responsibilities of a representative payee are prescribed in 20 CFR part 266.

The forms furnished by the RRB to apply for representative payee status, and for securing the information needed to support the application follow. RRB Form AA-5, Application for Substitution of Payee, obtains information needed to determine the selection of a representative payee who will serve in the best interest of the beneficiary. RRB Form G-478, Statement Regarding Patient's Capability to Manage Payments, obtains information about an annuitant's capability to manage payments. The form is completed by the annuitant's personal physician or by a medical officer, if the annuitant is in an institution. It is not required when a court has appointed an individual or institution to manage the annuitant's funds or, in the absence of such appointment, when the annuitant is a minor. The RRB also provides representative payees with a booklet at the time of their appointment. The booklet, RRB Form RB-5, Your Duties as Representative Payee-Representative Payee's Record, advises representative payees of their responsibilities under 20 CFR 266.9 and provides a means for the representative payee to maintain records pertaining to the receipt and use of RRB benefits. The booklet is provided for the representative payee's convenience. The RRB also accepts records that were kept by representative payee's as part of a common business practice.

Completion is voluntary. One response is requested of each respondent. The RRB is proposing non-burden impacting editorial changes to Forms AA-5 and G-478. No changes are proposed for the Booklet RB-5. The estimated completion time(s) is estimated at 17 minutes for Form AA-5, 6 minutes for Form G-478 and 60 minutes for Booklet RB-5. The RRB estimates that approximately 3,000 Form AA-5's, 2,000 Form G-478's and 15,300 RB-5's are completed annually.

Additional Information or Comments: To request more information or to obtain a copy of the information collection justification, forms, and/or supporting material, please call the RRB Clearance Officer at (312) 751-3363 or send an e-mail request to Charles.Mierzwa@RRB.GOV. Comments regarding the information collection should be addressed to Patricia A. Henaghan, Railroad Retirement Board, 844 North Rush Street, Chicago, Illinois 60611-2092 or send an e-mail to Patricia.Henaghan@RRB.GOV. Written comments should be received within 60 days of this notice.

Charles Mierzwa,
RRB Clearance Officer.

[FR Doc. 2010-7468 Filed 4-1-10; 8:45 am]

BILLING CODE 7905-01-P